DEPARTMENT OF THE INTERIOR

Bureau of Land Management

[(NV-912-0777)]

Notice of Public Meeting, Mojave Southern Great Basin Resource Advisory Council Meetings

AGENCY: Bureau of Land Management.

ACTION: Notice of public meetings.

SUMMARY: In accordance with the Federal Land Policy and Management Act (FLPMA) and the Federal Advisory Committee Act of 1972 (FACA), the U.S. Department of the Interior, Bureau of Land Management (BLM) Mojave Southern Great Basin Resource Advisory Council (RAC) will meet as indicated below.

DATES: The Mojave Southern Great Basin RAC meetings will be held January 20, 2006; March 23, 2006; June 15 and 16, 2006; and August 17, 2006.

ADDRESSES: The Mojave Southern Great Basin RAC meetings will be held January 20, 2006 and March 23, 2006 at the BLM Las Vegas Field Office, located at 4701 N. Torrey Pines Dr., Las Vegas, NV; June 15, 2006, at the Bristlecone Convention Center 150 Sixth St., Ely, NV; and August 17, 2006 at the Beatty Community Center, 100 A-Ave. South, Beatty, NV.

The Mojave Southern Great Basin RAC meetings will usually begin at 8 a.m. and adjourn at approximately 4 p.m. Public comment periods regarding matters on the agenda will be held at 9:30 a.m. during each meeting.

FOR FURTHER INFORMATION CONTACT: Hillerie C. Patton, BLM Las Vegas Field Office Public Affairs Specialist at 702-515-5046.

SUPPLEMENTARY INFORMATION: The Mojave Southern Great Basin RAC advises the Secretary of the Interior, through the Bureau of Land Management, on a variety of public issues in Southern Nevada. Topics of discussion during Mojave Southern RAC meetings may include land use planning, Environmental Impact Statements, recreation, fire management, invasive species management, energy and minerals management, travel management, wilderness, wild horse herd management, cultural resource management, and other issues as appropriate.

These meetings are open to the public. The public may present written comments to the RACs. Each formal RAC meeting will also have time, as identified above, allocated for hearing public comments. Depending on the number of persons wishing to comment and time available, the time for individual oral comments may be limited.

Dated: December 14, 2005.
Juan Palma,
Las Vegas Field Manager, Designated Federal Officer for the Mojave Southern Great Basin RAC.

[FR Doc. 05-24241 Filed 12-19-05; 8:45 am]

BILLING CODE 4310-HC-M